DEPARTMENT OF TRANSPORTATION

Federal Aviation Administration

14 CFR Part 73

[Docket No. FAA-2009-0921; Airspace Docket No. 09-AWA-3]

RIN 2120-AA66

Revision of Prohibited Area P-49; Crawford, TX

AGENCY: Federal Aviation Administration (FAA), DOT.

ACTION: Final rule.

SUMMARY: This action amends Prohibited Area 49 (P-49) Crawford, TX. While the United States Secret Service (USSS) recognizes the ongoing security requirement for this prohibited area, it considers reducing prohibited airspace area appropriate at this time. This action restores previously prohibited airspace to public use within the National Airspace System.

DATES: Effective date 0901 UTC, June 3, 2010.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On October 5, 2009, the Department of the Treasury, USSS, notified the FAA that while the security requirements for establishing P-49 Crawford, TX (66 FR 16391) remain valid, consideration of a modification of the existing prohibited area was appropriate. After a six-month security review of P-49, the USSS determined the dimensions (boundary and altitude) of the prohibited area could be reduced. This action responds to that notification.

The Rule

This action amends Title 14 Code of Federal Regulations (14 CFR) part 73 by revising the legal description for P-49 Crawford, TX. After conducting a security review of P-49, the USSS notified the FAA to reduce the boundary and altitude dimensions of the prohibited area. This action reduces the boundary from a 3 NM radius to a 2 NM radius of lat. 31°34′45″ N., 97°32′00″ W., and lowers the designated altitude from “Surface to but not including 5,000 feet MSL” to “Surface to but not including 2,000 feet MSL.”

Because this action restores previously prohibited airspace to public use, I find that notice and public procedures under 5 U.S.C. 553(b) are unnecessary as it would only delay the return of the airspace to public use.

Section 73.89 of Title 14 CFR part 73 was republished in FAA Order 7400.8S, effective February 16, 2010.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends prohibited airspace in Crawford, Texas.

Environmental Review

The FAA has determined that this action qualifies for categorical exclusion under the National Environmental Policy Act in accordance with paragraph 311c, FAA Order 1050.1E, Environmental Impacts: Policies and Procedures. This airspace action is not expected to cause any potentially significant environmental impacts, and no extraordinary circumstances exist that warrant preparation of an environmental assessment.

List of Subjects in 14 CFR Part 73

Airspace, Prohibited areas, Restricted areas.

Adoption of Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.89 [Amended]

2. § 73.89 is amended as follows:

* * * * *

P-49 Crawford, TX [Revised]

Boundaries. That airspace within a 2 NM radius of lat. 31°34′45″ N., long. 97°32′00″ W.

Designated altitudes. Surface to 2,000 feet MSL.

Time of designation. Continuous.

Using agency. United States Secret Service, Washington, DC.

Issued in Washington, DC, on March 25, 2010.
Kelly Neubecker,
Acting Manager, Airspace and Rules Group.

[FR Doc. 2010-7242 Filed 3-30-10; 8:45 am]

BILLING CODE 4910-13-P